DEPARTMENT OF AGRICULTURE

Agricultural Research Service

Draft Environmental Assessment for the Cotton Quality Research Station Land Transfer

AGENCY: Agricultural Research Service, USDA.

ACTION: Notice of the Draft Environmental Assessment for the Cotton Quality Research Station Land Transfer.

SUMMARY: In accordance with the National Environmental Policy Act (NEPA) of 1969, as amended, and the Federal Land Policy and Management Act of 1976 (FLPMA), as amended, the United States Department of Agriculture (USDA) has prepared a Draft Environmental Assessment (EA) for the proposed transfer of approximately 10 acres of land and facilities at the Cotton Quality Research Station (CQRS) from the USDA Agricultural Research Service (ARS) in Clemson, South Carolina, to Clemson University Research Farm Services. This notice is announcing the opening of a 30-day public comment period.

DATES: Comments must be received on or before August 17, 2013.

ADDRESSES: You may submit comments related to the proposed CQRS Land Transfer by any of the following methods: Email: cal.mather@ars.usda.gov, Fax: 309-681-6683. Mail: USDA-ARS-SHEMB, NCAUR, 1815 North University Avenue, Room 2016, Peoria, Ilinois 61604. Copies of the Draft EA for the proposed CQRS Land Transfer are available for public inspection at the following Web site and addresses:

• www.clemson.edu/usda-property.

• Former CQRS, 133 Old Cherry Road, Clemson, South Carolina 29631.

• Clemson University Library, 116 Sigma Drive, Clemson, South Carolina, 29634.

FOR FURTHER INFORMATION CONTACT: Cal Mather, Environmental Protection Specialist, USDA-ARS-SHEMB, NCAUR, 1815 North University Street, Room 2016, Peoria, Illinois 61604; 309-681-6608.

SUPPLEMENTARY INFORMATION: The USDA is proposing to transfer approximately 10 acres of land and facilities at CQRS, 133 Old Cherry Road in Clemson, South Carolina, to Clemson University. As a condition of the transfer, Clemson University is committed to using the property for agricultural research for a period of 25 years, supporting the strategic goals of USDA and establishing a Beginning Farmers and Ranchers Program in accordance with the Memorandum of Understanding, effective March 27, 2013. Clemson University would assume responsibility and maintenance of the constructed facilities and land to be conveyed from USDA. The property was developed to function as a cotton gin and was converted by USDA for use in their Agricultural Research Service (ARS) program. USDA/ARS and Clemson University have both utilized the property for agricultural research and development programs since the 1970s. The facility was closed under Public Law (Pub. L.) 112-55, Consolidated and Further Continuing Appropriations Act, 2012. In August 2012, a 5-year revocable permit was issued between USDA and Clemson University that allows Clemson University to utilize the Property for a Beginning Farmers and Ranchers Program and conduct a wide range of research, teaching, extension, and demonstration activities. Since August 2012 it has been operated by Clemson University under this permit. A Memorandum of Understanding was executed on March 27, 2013, that would allow the formal transfer of the Property from USDA to Clemson University. Under the terms of the Public Law, the Secretary of Agriculture will decide whether to formally transfer the Property from USDA to Clemson University or have USDA retain the possession of the Property. If the decision is made to transfer the Property, it will be done with no monetary cost to the University and a Quit Claim Deed will be prepared by the USDA to convey the title/property rights to Clemson University. The Quit Claim Deed would incorporate any use restrictions identified by the NEPA process, as well as the 25-year use restriction for agricultural and natural resources research as required by Section 732 of the Public Law. Two alternatives are analyzed in the Draft EA, the No Action Alternative and the Proposed Action. The draft EA addresses potential impacts of these alternatives on the natural and human environment.

• Alternative 1—No Action. The USDA would retain possession of the 10 acres of land and facilities at the 133 Old Cherry Road Property. USDA would no longer operate and/or maintain the property and current research operations at the property would cease. USDA does not have adequate resources to operate and/or maintain the property, which would likely fall into disrepair.

• Alternative 2—Proposed Action. The USDA would formerly transfer 10 acres of land at the 133 Old Cherry Road Property to Clemson University. As a condition of the transfer, Clemson University would commit to using the Property for agricultural and natural resources research for a period of 25 years, supporting the strategic goals of USDA and establishing a Beginning Farmers and Ranchers Program. Clemson University would assume responsibility and maintenance of the constructed facilities and land to be conveyed from USDA.

In addition, one alternative was considered in the Draft EA but eliminated from detailed study. In this alternative, USDA would retain possession of the land and it would be transferred to the General Services Administration for disposal. Since it cannot reasonably be determined who would ultimately take possession of the property and how it would be utilized, it was not analyzed in detail in the EA. The USDA will use and coordinate the NEPA commenting process to satisfy the public involvement process for Section 106 of the National Historic Preservation Act (16 U.S.C. 470(f) as provided for in 36 CFR 800.2(d)(3)). Following the public comment period, comments will be used to prepare the Final EA. The USDA will respond to each substantive comment by making appropriate revisions to the document or by explaining why a comment did not warrant a change. A Notice of Availability of the Final EA will be published in the Federal Register. All comments, including any personal identifying information included in the comment will become a matter of public record. While you can ask us in your comment to withhold your personal identifying information from public review, we cannot guarantee that we will be able to do so.

Dated: July 10, 2013.
Edward B. Knipling,
Administrator, Agricultural Research Service.

[FR Doc. 2013-17245 Filed 7-17-13; 8:45 am]

BILLING CODE 3410-03-P